DEPARTMENT OF THE INTERIOR

Office of the Secretary

[DR.5A311.IA000514]

Secretarial Commission on Indian Trust Administration and Reform

AGENCY: Office of the Secretary, Interior.

ACTION: Notice of meeting.

SUMMARY: The Office of the Secretary is announcing that the Secretarial Commission on Indian Trust Administration and Reform (the Commission) will hold a public webinar meeting on November 20, 2013. The Commission expects that this will be its last public meeting. During the public meeting, the Commission will approve the August 2013 public meeting summary, approve the Commission recommendations, and take public comments.

DATES: The Commission's public webinar meeting will begin at 4:30 p.m. and end at 5:30 p.m. Eastern Time on November 20, 2013. Members of the public who wish to participate should register by November 19, 2013 (see SUPPLEMENTARY INFORMATION for registration instructions).

FOR FURTHER INFORMATION CONTACT: The Designated Federal Official, Sarah Harris, Chief of Staff to the Assistant Secretary—Indian Affairs, Department of the Interior, 1849 C Street NW., Room 4141, Washington, DC 20240; or email to Sarah.Harris@bia.gov.

SUPPLEMENTARY INFORMATION: The Secretarial Commission on Indian Trust Administration and Reform was established under Secretarial Order No. 3292, dated December 8, 2009. The Commission plays a key role in the Department's ongoing efforts to empower Indian nations and strengthen nation-to-nation relationships.

The Commission is completing a comprehensive evaluation of the Department's management and administration of the trust assets within a two-year period and will offer recommendations to the Secretary of the Interior of how to improve in the future. During the past two-year period, the Commission has been working to:

(1) Conduct a comprehensive evaluation of the Department's management and administration of the trust administration system;

(2) Review the Department's provision of services to trust beneficiaries;

(3) Review input from the public, interested parties, and trust beneficiaries which should involve conducting a number of regional listening sessions;

(4) Consider the nature and scope of necessary audits of the Department's trust administration system;

(5) Recommend options to the Secretary to improve the Department's management and administration of the trust administration system based on information obtained from these Commission's activities, including whether any legislative or regulatory changes are necessary to permanently implement such improvements; and

(6) Consider the provisions of the American Indian Trust Fund Management Reform Act of 1994 providing for the termination of the Office of the Special Trustee for American Indians, and make recommendations to the Secretary regarding any such termination.

On Wednesday, November 20, 2013, the Commission will hold its last public meeting. The following items will be on the agenda:

• Welcome, introductions and agenda review;

• Approve August 2013 public meeting summary;

• Review and approve Commission recommendations;

• Public comments; and

• Adjourn.

Members of the public who wish to participate in the November 20, 2013, public meeting (which will be held by webinar) should register at the following Web site by November 19, 2013: https://www1.gotomeeting.com/register/774101625. Upon your registration, instructions on how to join the meeting will be sent to your email address. The webinar is limited to 100 participants.

Written comments may be sent to the Designated Federal Official listed in the FOR FURTHER INFORMATION CONTACT section above. To review all related material on the Commission's work, please refer to http://www.doi.gov/cobell/commission/index.cfm. All meetings are open to the public.

Dated: October 30, 2013.
Kevin K. Washburn,
Assistant Secretary—Indian Affairs.

[FR Doc. 2013-26369 Filed 11-4-13; 8:45 am]

BILLING CODE 4310-W7-P